DEPARTMENT OF COMMERCE

International Trade Administration

[A-555-005]

Paper File Folders From Cambodia: Final Negative Determination of Sales at Less Than Fair Value

AGENCY: Enforcement and Compliance, International Trade Administration, Department of Commerce.

SUMMARY: The U.S. Department of Commerce (Commerce) determines that paper file folders from Cambodia are not being, or are not likely to be, sold in the United States at less than fair value (LTFV). The period of investigation is October 1, 2023, through September 30, 2024.

DATES: Applicable December 29, 2025.

FOR FURTHER INFORMATION CONTACT: Kelsie Hohenberger, AD/CVD Operations, Office V, Enforcement and Compliance, International Trade Administration, U.S. Department of Commerce, 1401 Constitution Avenue NW, Washington, DC 20230; telephone: (202) 482-2517.

SUPPLEMENTARY INFORMATION:

Background

On May 29, 2025, Commerce published its Preliminary Determination in the Federal Register and invited interested parties to comment.¹ However, no parties submitted comments. Because no interested party submitted comments, the only modification we have made from the Preliminary Determination is to incorporate a finding from the cost verification and rely on a revised cost database obtained following issuance of the Preliminary Determination.² Accordingly, an analysis memorandum accompanies this Federal Register notice.³

¹ See Paper File Folders from Cambodia: Preliminary Negative Determination of Sales at Less Than Fair Value and Postponement of Final Determination, 90 FR 22694 (May 29, 2025) (Preliminary Determination), and accompanying Preliminary Decision Memorandum.

² See Memorandum, “Final Determination Analysis Memorandum for Three-Color Stone Stationery (Cambodia) Co., Ltd.,” dated concurrently with this notice (TCS Final Analysis Memorandum).

³ Id.

Due to the lapse in appropriations and Federal Government shutdown, on November 14, 2025, Commerce tolled all deadlines in administrative proceedings by 47 days.⁴ Additionally, due to a backlog of documents that were electronically filed via Enforcement and Compliance's Antidumping and Countervailing Duty Centralized Electronic Service System (ACCESS) during the Federal Government shutdown, on November 24, 2025, Commerce tolled all deadlines in administrative proceedings by an additional 21 days.⁵ Accordingly, the deadline for this final determination is now December 18, 2025.

⁴ See Memorandum, “Deadlines Affected by the Shutdown of the Federal Government,” dated November 14, 2025.

⁵ See Memorandum, “Tolling of all Case Deadlines,” dated November 24, 2025.

Scope of the Investigation

The products covered by this investigation are paper file folders from Cambodia. For a complete description of the scope of this investigation, see the appendix to this notice.

Scope Comments

No interested party commented on the scope of the investigation as it appeared in the Preliminary Determination. Therefore, no changes were made to the scope of the investigation.

Verification

As provided in section 782(i) of the Tariff Act of 1930, as amended (the Act), in June 2025, we conducted verification of information submitted by Three-Color Stone Stationery (Cambodia) Co., Ltd. (TCS) for use in our final determination. We used standard verification procedures, including an examination of relevant accounting records and original source documents provided by TCS.⁶

⁶ See Memoranda, “Verification of the Sales Responses of Three-Color Stone Stationery (Cambodia) Co., Limited in the Less-Than-Fair-Value Investigation of Paper File Folders from Cambodia,” dated August 4, 2025; and “Verification of the Cost Response of Three-Color Stone Stationery (Cambodia) Co., Limited in the Less-Than-Fair-Value Investigation of Paper File Folders from Cambodia,” dated August 14, 2025.

Changes Since the Preliminary Determination

As noted above, we have incorporated certain changes in our final margin calculations for TCS. Specifically, we are: (1) relying on a revised cost database submitted by TCS following the Preliminary Determination, and (2) revising TCS's general and administrative expense ratio to include certain expenses related to other non-operating expenses as a result of a finding made during our cost verification. We are making no other changes from the Preliminary Determination. For a discussion of these changes, see the TCS Final Analysis Memorandum.

Final Determination

Commerce determines that the following estimated weighted-average dumping margin exists:

Producer/exporter | Weighted-average dumping margin (percent) | Cash deposit rate (percent)
Three-Color Stone Stationery (Cambodia) Co., Ltd./Three-Color Stone Manufacture Limited ⁷ | 0.00 | Not Applicable.

Commerce has not calculated an estimated weighted-average dumping margin for all other producers and exporters pursuant to sections 735(c)(1)(B) and (c)(5) of the Act, because it has not made an affirmative final determination of sales at LTFV.

⁷ See Memorandum, “Single-Entity Analysis for Three-Color Stone Stationery (Cambodia) Co., Ltd. and Affiliated Companies,” dated May 21, 2025 (Single Entity Analysis Memo). As discussed in the Single Entity Analysis Memo, Commerce determined that TCS and Three-Color Stone Manufacture Limited constitute a single entity.

Disclosure

Commerce intends to disclose the calculations performed in connection with this final determination to interested parties within five days of any public announcement or, if there is no public announcement, within five days of the date of publication of this notice in the Federal Register, in accordance with 19 CFR 351.224(b).

Suspension of Liquidation

In the Preliminary Determination, we calculated an estimated weighted-average dumping margin for TCS that was zero percent and, therefore, we did not suspend liquidation of entries of paper file folders from Cambodia.8 Because Commerce has made a negative final determination of sales at LTFV, we will not direct U.S. Customs and Border Protection to suspend liquidation or to require cash deposits of estimated antidumping duties for entries of paper file folders from Cambodia.

U.S. International Trade Commission (ITC) Notification

In accordance with section 735(d) of the Act, Commerce will notify the ITC of its negative final determination of sales at LTFV. Because the final determination is negative, this proceeding is terminated in accordance with section 735(c)(2) of the Act.

Administrative Protective Order (APO)

This notice will serve as the only reminder to parties subject to an APO of their responsibility concerning the destruction of proprietary information disclosed under APO, in accordance with 19 CFR 351.305(a)(3). Timely written notification of the return or destruction of APO materials or conversion to judicial protective order is hereby requested. Failure to comply with the regulations and terms of an APO is a violation which is subject to sanction.

Notification to Interested Parties

This determination is issued and published pursuant to sections 735(d) and 777(i) of the Act, and 19 CFR 351.210(c).

Dated: December 18, 2025.
Christopher Abbott,
Deputy Assistant Secretary for Policy and Negotiations, performing the non-exclusive functions and duties of the Assistant Secretary for Enforcement and Compliance.

Appendix

Scope of the Investigation

The products within the scope of this investigation are file folders consisting primarily of paper, paperboard, pressboard, or other cellulose material, whether coated or uncoated, that has been folded (or creased in preparation to be folded), glued, taped, bound, or otherwise assembled to be suitable for holding documents. The scope includes all such folders, regardless of color, whether or not expanding, whether or not laminated, and with or without tabs, fasteners, closures, hooks, rods, hangers, pockets, gussets, or internal dividers. The term “primarily” as used in the first sentence of this scope means 50 percent or more of the total product weight, exclusive of the weight of fasteners, closures, hooks, rods, hangers, removable tabs, and similar accessories, and exclusive of the weight of the packaging.

Subject folders have the following dimensions in their folded and closed position: lengths and widths of at least 8 inches and no greater than 17 inches, regardless of depth.

The scope covers all varieties of folders, including but not limited to manila folders, hanging folders, fastener folders, classification folders, expanding folders, pockets, jackets, and wallets.

Excluded from the scope are:

• mailing envelopes with a flap bearing one or more adhesive strips that can be used permanently to seal the entire length of a side such that, when sealed, the folder is closed on all four sides;

• binders, with two or more rings to hold documents in place, made of paperboard or pressboard encased entirely in plastic;

• binders consisting of a front cover, back cover, and spine, with or without a flap; to be excluded, a mechanism with two or more metal rings that must be included on or adjacent to the interior spine;

• non-expanding folders with a depth exceeding 2.5 inches and that are closed or closeable on the top, bottom, and all four sides (e.g., boxes or cartons);

• expanding folders that have: (1) 13 or more pockets; (2) a flap covering the top; (3) a latching mechanism made of plastic and/or metal to close the flap; and (4) an affixed plastic or metal carry handle;

• folders that have an outer surface (other than the gusset, handles, and/or closing mechanisms, if any) that is covered entirely with fabric, leather, and/or faux leather;

• fashion folders, which are defined as folders with all of the following characteristics: (1) plastic lamination covering the entire exterior of the folder; (2) printing, foil stamping, embossing (i.e., raised relief patterns that are recessed on the opposite side), and/or debossing (i.e., recessed relief patterns that are raised on the opposite side), covering the entire exterior surface area of the folder; (3) at least two visible and printed or foil stamped colors (other than the color of the base paper), each of which separately covers no less than 10 percent of the entire exterior surface area; and (4) patterns, pictures, designs, or artwork covering no less than thirty percent of the exterior surface area of the folder;

• portfolios, which are folders having: (1) a width of at least 16 inches when open flat; (2) no tabs or dividers; and (3) one or more pockets that are suitable for holding letter size documents and that cover at least 15 percent of the surface area of the relevant interior side or sides; and

• report covers, which are folders having: (1) no tabs, dividers, or pockets; and (2) one or more fasteners or clips, each of which is permanently affixed to the center fold, to hold papers securely in place.

Imports of the subject merchandise are provided for under Harmonized Tariff Schedule of the United States (HTSUS) subheading 4820.30.0040. Subject imports may also enter under other HTSUS subheadings. While the HTSUS subheading is provided for convenience and customs purposes, the written description of the scope of the investigation is dispositive.

[FR Doc. 2025-23781 Filed 12-23-25; 8:45 am]

BILLING CODE 3510-DS-P